DEPARTMENT OF TRANSPORTATION

Maritime Administration

[Docket No. MARAD-2019-0095]

Deepwater Port License Application: West Delta LNG LLC

AGENCY: Maritime Administration, Department of Transportation.

ACTION: Notice of intent; notice of public meeting; request for comments.

SUMMARY: The U.S. Coast Guard (USCG), in coordination with the Maritime Administration (MARAD), will prepare an environmental impact statement (EIS) as part of the environmental review of the West Delta LNG LLC (Applicant) deepwater port license application. The application proposes the ownership, construction, operation and eventual decommissioning of an offshore natural gas export deepwater port known as West Delta LNG (West Delta LNG) that would be located in Federal waters approximately 10.5 nautical miles off the coast of Plaquemines Parish, Louisiana in a water depth of approximately 57 to 60 feet. The deepwater port would allow for the loading of liquefied natural gas (LNG) trading carriers.

This Notice of Intent (NOI) requests public participation in the scoping process, provides information on how to participate and announces an informational open house and public meeting in Belle Chasse, Louisiana. Pursuant to the criteria provided in the Deepwater Port Act of 1974, as amended, 33 U.S.C. 1501 et seq. (the Act), Louisiana is the designated Adjacent Coastal State for this application.

DATES: There will be one public scoping meeting held in connection with the West Delta LNG deepwater port application. The meeting will be held in Belle Chasse, Louisiana on Tuesday, October 29, 2019, from 6:00 p.m. to 8:00 p.m. The public meeting will be preceded by an informational open house from 4:00 p.m. to 6:00 p.m.

The public meeting may end later than the stated time, depending on the number of persons wishing to speak. Additionally, materials submitted in response to this request for comments on the West Delta LNG deepwater port license application must reach the Federal Docket Management Facility as detailed below by Wednesday, November 6, 2019.

ADDRESSES: The open house and public meeting in Belle Chasse, Louisiana will be held at the Belle Chasse Auditorium, 8398 Highway 23, Belle Chasse, Louisiana, 70037, phone: (504) 208-1455. The public docket for the West Delta LNG deepwater port license application is maintained by the U.S. Department of Transportation, Docket Management Facility, West Building, Ground Floor, Room W12-140, 1200 New Jersey Avenue SE, Washington, DC 20590.

The license application is available for viewing at the Regulations.gov website: http://www.regulations.gov under docket number MARAD-2019-0095.

We encourage you to submit comments electronically through the Federal eRulemaking Portal at http://www.regulations.gov. If you submit your comments electronically, it is not necessary to also submit a hard copy. If you cannot submit material using http://www.regulations.gov, please contact either Mr. Matthew Layman, USCG or Ms. Yvette Fields, MARAD, as listed in the following FOR FURTHER INFORMATION CONTACT section of this document, which also provides alternate instructions for submitting written comments. Additionally, if you go to the online docket and sign up for email alerts, you will be notified when comments are posted. Anonymous comments will be accepted. All comments received will be posted without change to http://www.regulations.gov and will include any personal information you have provided. The Federal Docket Management Facility's telephone number is 202-366-9317 or 202-366-9826, the fax number is 202-493-2251.

FOR FURTHER INFORMATION CONTACT: Mr. Matthew Layman, U.S. Coast Guard, telephone: 202-372-1421, email: Matthew.D.Layman@uscg.mil, or Ms. Yvette Fields, Maritime Administration, telephone: 202-366-0926, email: Yvette.Fields@dot.gov. For questions regarding viewing the Docket, call Docket Operations, telephone: 202-366-9317 or 202-366-9826.

SUPPLEMENTARY INFORMATION:

Public Meeting and Open House

We encourage you to attend the informational open house and public meeting to learn about, and comment on, the proposed deepwater port. You will have the opportunity to submit comments on the scope and significance of the issues related to the proposed deepwater port that should be addressed in the EIS.

Speaker registrations will be available at the door. Speakers at the public scoping meeting will be recognized in the following order: Elected officials, public agencies, individuals or groups in the sign-up order and then anyone else who wishes to speak.

In order to allow everyone a chance to speak at a public meeting, we may limit speaker time, extend the meeting hours, or both. You must identify yourself, and any organization you represent, by name. Your remarks will be recorded and/or transcribed for inclusion in the public docket.

You may submit written material at the public meeting, either in place of, or in addition to, speaking. Written material should include your name and address and will be included in the public docket.

Public docket materials will be made available to the public on the Federal Docket Management Facility website (see ADDRESSES).

Our public meeting location is wheelchair-accessible and compliant with the Americans with Disabilities Act. If you plan to attend the open house or public meeting and need special assistance such as sign language interpretation, non-English language translator services or other reasonable accommodation, please notify the USCG or MARAD (see FOR FURTHER INFORMATION CONTACT) at least 5 business days in advance of the public meeting. Include your contact information as well as information about your specific needs.

Request for Comments

We request public comment on this proposal. The comments may relate to, but are not limited to, the environmental impact of the proposed action. All comments will be accepted. The public meeting is not the only opportunity you have to comment on the West Delta LNG deepwater port license application. In addition to, or in place of, attending a meeting, you may submit comments directly to the Federal Docket Management Facility during the public comment period (see DATES). We will consider all comments and material received during the 30-day scoping period.

The license application, comments and associated documentation, as well as the draft and final EISs (when published), are available for viewing at the Federal Docket Management System (FDMS) website: http://www.regulations.gov under docket number MARAD-2019-0095.

Public comment submissions should include:

• Docket number MARAD-2019-0095.

• Your name and address.

Submit comments or material using only one of the following methods:

• Electronically (preferred for processing) to the Federal Docket Management System (FDMS) website: http://www.regulations.gov under docket number MARAD-2019-0095.

• By mail to the Federal Docket Management Facility (MARAD-2019-0095), U.S. Department of Transportation, West Building, Ground Floor, Room W12-140, 1200 New Jersey Avenue SE, Washington, DC 20590-0001.

• By personal delivery to the room and address listed above between 9:00 a.m. and 5:00 p.m., Monday through Friday, except Federal holidays.

• By fax to the Federal Docket Management Facility at 202-493-2251.

Faxed, mailed or hand delivered submissions must be unbound, no larger than 8½ by 11 inches and suitable for copying and electronic scanning. The format of electronic submissions should also be no larger than 8½ by 11 inches. If you mail your submission and want to know when it reaches the Federal Docket Management Facility, please include a stamped, self-addressed postcard or envelope.

Regardless of the method used for submitting comments, all submissions will be posted, without change, to the FDMS website (http://www.regulations.gov) and will include any personal information you provide. Therefore, submitting this information to the docket makes it public. You may wish to read the Privacy and Use Notice that is available on the FDMS website and the Department of Transportation Privacy Act Notice that appeared in the Federal Register on April 11, 2000 (65 FR 19477), see Privacy Act. You may view docket submissions at the Federal Docket Management Facility or electronically on the FDMS website.

Background

Information about deepwater ports, the statutes, and regulations governing their licensing, including the application review process, and the receipt of the current application for the proposed West Delta LNG deepwater port appears in the West Delta LNG Notice of Application, Thursday, September 26, 2019 edition of the Federal Register (84 FR 50880). The “Summary of the Application” from that publication is reprinted below for your convenience.

Consideration of a deepwater port license application includes review of the proposed deepwater port's impact on the natural and human environment. For the proposed deepwater port, USCG and MARAD are the co-lead Federal agencies for determining the scope of this review, and in this case, it has been determined that review must include preparation of an EIS. This NOI is required by 40 CFR 1501.7. It briefly describes the proposed action, possible alternatives and our proposed scoping process. You can address any questions about the proposed action, the scoping process or the EIS to the USCG or MARAD project managers identified in this notice (see FOR FURTHER INFORMATION CONTACT).

Proposed Action and Alternatives

The proposed action requiring environmental review is the Federal licensing of the proposed deepwater port described in “Summary of the Application” below. The alternatives to licensing the proposed port are: (1) Licensing with conditions (including conditions designed to mitigate environmental impact), (2) evaluation of proposed deepwater port and onshore site/pipeline route alternatives or (3) denying the application, which for purposes of environmental review is the “no-action” alternative.

Scoping Process

Public scoping is an early and open process for identifying and determining the scope of issues to be addressed in the EIS. Scoping begins with this notice, continues through the public comment period (see DATES), and ends when USCG and MARAD have completed the following actions:

• Invites the participation of Federal, state, and local agencies, any affected Indian tribe, the Applicant, and other interested persons;

• Determines the actions, alternatives and impacts described in 40 CFR 1508.25;

• Identifies and eliminates from detailed study, those issues that are not significant or that have been covered elsewhere;

• Identifies other relevant permitting, environmental review and consultation requirements;

• Indicates the relationship between timing of the environmental review and other aspects of the application process; and

• At its discretion, exercises the options provided in 40 CFR 1501.7(b).

Once the scoping process is complete, USCG and MARAD will prepare a draft EIS. When complete, MARAD will publish a Federal Register notice announcing public availability of the Draft EIS. (If you want that notice to be sent to you, please contact the USCG or MARAD project manager identified in FOR FURTHER INFORMATION CONTACT). You will have an opportunity to review and comment on the Draft EIS. The USCG, MARAD and other appropriate cooperating agencies will consider the received comments and then prepare the Final EIS. As with the Draft EIS, we will announce the availability of the Final EIS and give you an opportunity for review and comment. The Act requires a final public hearing be held in the Adjacent Coastal State. Its purpose is to receive comments on matters related to whether or not a deepwater port license should be issued to the applicant by the Maritime Administrator. The final public hearing will be held in Belle Chasse, Louisiana after the Final EIS is made available for public review and comment.

Summary of the Application

The application proposes the ownership, construction, operation and eventual decommissioning of a deepwater port terminal in the Gulf of Mexico to export domestically produced natural gas. In the nominal design case, the Venice Pretreatment Plant would process approximately 750 million standard cubic feet per day (MMscfd) of feed natural gas for the proposed West Delta LNG deepwater port. Based on an estimated production unit availability of 95.4 percent and an allowance for consumption of feed gas during the liquefaction process, the proposed West Delta LNG deepwater port would nominally produce 5.0 MMtpa of LNG for export. In the optimized case, the proposed project would process approximately 900 MMscfd of feed natural gas to produce approximately 6.1 MMtpa of LNG for export, or the equivalent of 306 billion standard cubic feet per year of LNG.

The trading carriers calling on the West Delta LNG deepwater port would have nominal cargo capacities ranging from 30,000 cubic meters (m³) to 180,000 m³. For trading carriers of 180,000 m³ capacity, the Applicant anticipates a steady state loading rate of 12,000 m³ that would allow a 24-hour turnaround period, including time for berthing, system connections, and custody transfer administration. For LNG trading carriers of 30,000 m³ capacity, the Applicant anticipates a shorter loading and turnaround time of 14 hours. The overall project would consist of offshore and marine components as well as onshore components as described below.

Offshore and Marine Components of the Deepwater Port

The West Delta LNG deepwater port offshore and marine components would consist of an LNG production and storage unit, a loading platform and marine berth unit and support facilities, as described below:

• The proposed deepwater port will consist of thirteen (13) fixed bridge connected platforms with piles in Outer Continental Shelf West Delta Lease Block 44, approximately 10.5 nautical miles off the coast of Plaquemines Parish, Louisiana in a water depth of approximately 57 to 60 feet, with the gas arrival platform located at latitude 29° 04′ 56.11″ N and longitude 89° 39′ 16.00″ W. Eleven (11) bridges would connect the platforms and marine berth and provide for piping, electrical, instrument/automation, and personnel transit between platforms.

• The LNG production and storage unit will contain a gas arrival platform where liquefaction-ready gas would be supplied by the Venice Pretreatment Plant described below and a proposed 30-inch subsea pipeline that would terminate at the gas arrival platform. The production platform will consist of three (3) LNG production platforms capable of accommodating a total of six (6) liquefaction trains (two [2] trains per platform), with each liquefaction train system consisting of one (1) 0.83-MMtpa liquefaction unit and one (1) ethane extraction system. Additionally, the West Delta LNG deepwater port would have five (5) LNG storage platforms outfitted with three (3) 20,000 m³ FSP storage tanks providing 60,000 m³ of LNG per storage platform for a total storage capacity of 300,000 m³. A flare tripod platform equipped with a flare stack, smokeless tips, and ignition system(s) and scrubbers would be provided to safely burn all vented gas.

• The West Delta LNG loading platform and marine berthing facilities will contain a loading arm system located on the LNG loading platform that would be used to load LNG onto a single LNG trading carrier. The loading and marine berth would be capable of handling LNG trading carriers with nominal capacities ranging from 30,000 m³ up to 180,000 m³. The West Delta LNG deepwater port would include six (6) mooring dolphins and four (4) breasting dolphins. Breasting dolphins and mooring dolphins are marine structures used for berthing and mooring of vessels.

• The support facilities will contain an accommodation platform for West Delta LNG personnel and shall include living quarters for up to 36 people, a control station, helideck, and an auxiliary command room. All main power and essential power, other than the dedicated emergency generator located on the accommodations platform would be created and distributed from the utilities platform.

• The loading platform is connected to offshore LNG tankers with a 180,000 m³ nominal capacity for loading by two (2) 16-inch (40.6-centimeter) diameter standard liquid arms; one (1) hybrid (liquid/vapor) 16-inch diameter arm; and one (1) 16-inch diameter standard vapor arm. Depending on manifold restrictions, two (2) liquid arms and one (1) vapor arm would be used to load the 30,000 m³ nominal capacity LNG trading carriers.

Onshore Components of the Deepwater Port

The West Delta LNG deepwater port onshore components would consist of the proposed Venice Pretreatment Plant which would be located in Plaquemines Parish, Louisiana within the grounds of an existing 121-acre onshore natural gas processing facility known as the Venice Gas Complex. The onshore components are as follows:

• The Venice Pretreatment Plant would receive natural gas from offshore Gulf of Mexico midstream pipelines and/or interstate pipeline feed gas from pipelines already interconnected with the Venice Gas Complex. The natural gas would be pre-treated to meet liquefaction specifications, compressed onshore, and sent to the West Delta LNG offshore deepwater port.

• The proposed Venice Pretreatment Plant would contain the following major components for the pre-treatment and processing of sourced natural gas: Cryogenic trains to process offshore-sourced gas, natural gas compressors, gas pretreatment packages, power generation units driven by gas turbines, waste heat recovery units, utilities to support the new gas pretreatment and compression equipment and a flare to combust waste gas from the pretreatment process.

The onshore components connect to the offshore components by a single pipeline. This pipeline would be constructed to transfer the liquefaction-ready gas from the proposed onshore Venice Pretreatment Plant to the West Delta LNG deepwater port. The proposed pipeline's outgoing onshore assembly is a 4.3 statute mile 30-inch diameter connection from the Venice Pretreatment Plant (measured from the proposed pig launcher to the high water mark) where this pipeline becomes the subsea pipeline supplying the offshore deepwater port. At this point, the pipeline continues, extending 15.5 statute miles beyond the high water mark to terminate at the proposed West Delta LNG offshore deepwater port.

Privacy Act

The electronic form of all comments received into the FDMS can be searched by the name of the individual submitting the comment (or signing the comment, if submitted on behalf of an association, business, labor union, etc.). The Department of Transportation Privacy Act Statement can be viewed in the Federal Register published on April 11, 2000 (Volume 65, Number 70, pages 19477-78) or by visiting http://www.regulations.gov.

(Authority: 49 CFR 1.93).

By Order of the Maritime Administrator.
Gabriel Chavez,
Secretary, Maritime Administration.

[FR Doc. 2019-21567 Filed 10-3-19; 8:45 am]

BILLING CODE 4910-81-P